DEPARTMENT OF THE INTERIOR

National Park Service

National Register of Historic Places; Notification of Pending Nominations and Related Actions

Nominations for the following properties being considered for listing or related actions in the National Register were received by the National Park Service before October 11, 2008.

Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by November 12, 2008.

J. Paul Loether,
Chief, National Register of Historic Places/National Historic Landmarks Program.

DISTRICT OF COLUMBIA

District of Columbia

Engine House No. 10, (Firehouses in Washington DC MPS) 1341 Maryland Ave., NE., Washington, DC, 08001063

Nathaniel Parker Gage School, (Public School Buildings of Washington, DC MPS) 2035 2nd St., NW., Washington, DC, 08001064

HAWAII

Maui County

Ka'ahumanu Avenue—Naniloa Drive Overpass, Naniloa Dr. at Ka'ahumanu Ave., Wailuku, 08001065

KANSAS

Ellis County

St. Joseph's Church and Parochial School, 210 W. 13th and 217 W. 13th, Hays, 08001066

Reno County

Ranson Hotel, 4918 E. Main, Medora, 08001067

Riley County

First Congregational Church, 700 Poyntz Ave., Manhattan, 08001068

MARYLAND

Allegany County

Flock's Mill, Address Restricted, Cumberland, 08001071

Howard County

Round About Hills, 15505 Cattail Oaks, Glenwood, 08001072

Wheatland, 12570 Hall Shop Rd., Fulton, 08001073

Montgomery County

Carderock Springs Historic District, (Subdivisions by Edmund Bennett and Keyes, Lethbridge and Condon in Montgomery County, MD, 1956-1973, MPS) Roughly bounded by I-495, Cabin John Regional Park, Seven Locks Rd., Fenway Rd., and Persimmon Tree Ln., Bethesda, 08001074

MASSACHUSETTS

Hampden County

Prospect Hill School, 33 Montgomery St., Westfield, 08001069

Middlesex County

Dennison Manufacturing Co. Paper Box Factory, 175 Maple St., Marlborough, 08001070

MISSISSIPPI

Attala County

Kosciusko Historic District, Roughly bounded by the Illinois, N. Wells, S. Natchez, Galloway, Bobo, S. Huntington, Jefferson St., Highland Dr., Kosciusko, 08001084

NEW YORK

Chemung County

Pratt House, 413 Lake St., Elmira, 08001075

Erie County

Lancaster District School No. 6, 3703 Bowen Rd., Lancaster, 08001076

Ontario County

Dickson, John and Mary, House, 9010 Main St., West Bloomfield, 08001077

Ontario and Livingston Mutual Insurance Office, (Cobblestone Architecture of New York State MPS) 9018 Main St., West Bloomfield, 08001078

Orleans County

Shelp, John, Cobblestone House, (Cobblestone Architecture of New York State MPS) 10181 West Shelby Rd., Middleport, 08001079

Putnam County

Grove, The, 12 Grove Ct., Cold Spring, 08001080

Seneca County

Ritter, Simon, Cobblestone Farmhouse, (Cobblestone Architecture of New York State MPS) 5102 NY Rt. 89, Varick, 08001081

Warren County

FORWARD shipwreck site (motor launch), Address Restricted, Lake George, 08001082

Westchester County

Proctor's Theater, 53 S. Broadway, Yonkers, 08001083

TENNESSEE

Davidson County

Glen Leven, (Historic Family Farms in Middle Tennessee MPS) 4000 Franklin Rd., Oak Hill, 08001085

Home for Aged Masons, Ben Allen Ln. and R.S. Glass Blvd., Nashville, 08001086

Request for REMOVAL has been made for the following resources:

TENNESSEE

Jefferson County

Newman, Samuel Isaac, House, Bible Rd., Jefferson City, 80003838

Lawrence County

Garner Mill, Garner Ln., Lawrenceburg, 84003575

Sevier County

Cole, Alex, Cabin 5 mi. S of Gatlingburg off U.S. 441 in Great Smoky Mountains National Park, Gatlinburg, 76000165

Request for MOVE has been made for the following resources:

KANSAS

Norton County

Sand Creek Truss Leg Beadstead Bridge, Larrick Park, Lenora, 03000365

[FR Doc. E8-25479 Filed 10-24-08; 8:45 am]

BILLING CODE 4310-70-P